INTERNATIONAL TRADE COMMISSION

[Inv. No. 337-TA-474]

Certain Recordable Compact Discs and Rewritable Compact Discs; Notice of Investigation

AGENCY: International Trade Commission.

ACTION: Institution of investigation pursuant to 19 U.S.C. 1337.

SUMMARY: Notice is hereby given that a complaint was filed with the U.S. International Trade Commission on June 24, 2002, under section 337 of the Tariff Act of 1930, as amended, 19 U.S.C. 1337, on behalf of U.S. Philips Corporation of Tarrytown, New York. Letters supplementing the complaint were filed on July 10, 2002 and July 16, 2002. The complaint, as supplemented, alleges violations of section 337 in the importation into the United States, the sale for importation, and the sale within the United States after importation of certain recordable compact discs and rewritable compact discs by reason of infringement of claims 1, 5, and 6 of U.S. Letters Patent 4,807,209, claim 11 of U.S. Letters Patent 4,962,493, claims 1-3 of U.S. Letters Patent 4,972,401, claims 1, 3, and 4 of U.S. Letters Patent 5,023,856, claims 1-6 of U.S. Letters Patent 4,999,825, and claims 20, and 23-34 of U.S. Letters Patent 5,418,764. The complaint further alleges that there exists an industry in the United States as required by subsection (a)(2) of section 337.

The complainant requests that the Commission institute an investigation and, after the investigation, issue a permanent exclusion order and a permanent cease and desist order.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS-ON-LINE) at http://dockets.usitc.gov/eol/public.

FOR FURTHER INFORMATION CONTACT: Jeffrey R. Whieldon, Esq., Office of Unfair Import Investigations, U.S. International Trade Commission, telephone 202-205-2606.

Authority: The authority for institution of this investigation is contained in section 337 of the Tariff Act of 1930, as amended, and in § 210.10 of the Commission's rules of practice and procedure, 19 CFR 210.10 (2002).

Scope of Investigation

Having considered the complaint, the U.S. International Trade Commission, on July 19, 2002, ordered that—

(1) Pursuant to subsection (b) of section 337 of the Tariff Act of 1930, as amended, an investigation be instituted to determine whether there is a violation of subsection (a)(1)(B) of section 337 in the importation into the United States, the sale for importation, or the sale within the United States after importation of certain recordable compact discs or rewritable compact discs by reason of infringement of claims 1, 5, or 6 of U.S. Letters Patent 4,807,209, claim 11 of U.S. Letters Patent 4,962,493, claims 1, 2, or 3 of U.S. Letters Patent 4,972,401, claims 1, 3, or 4 of U.S. Letters Patent 5,023,856, claims 1-5 or 6 of U.S. Letters Patent 4,999,825, or claims 20, 23-33, or 34 of U.S. Letters Patent 5,418,764, and whether there exists an industry in the United States as required by subsection (a)(2) of section 337.

(2) For the purpose of the investigation so instituted, the following are hereby named as parties upon which this notice of investigation shall be served:

(a) The complainant is: U.S. Philips Corporation, 580 White Plains Road, Tarrytown, New York 10591.

(b) The respondents are the following companies alleged to be in violation of section 337, and are parties upon which the complaint is to be served:

Acme Production Industries, Room B & C, 7/F, Tai Chi Factory Building, 25-29 Kok Cheung Street, Tai Kok Tsui, Kowloon, Hong Kong.

Bregusa Micro International LLC, 22622 Lambert Street, Suite 306, Lake Forest, California 92630.

Digital Storage Technology Co., Ltd., 42 Kung 4 Road, LinKou 2nd Industrial Park, Taipei Hsien, Taiwan.

DiscsDirect.Com, 2165 South Bascom Avenue, Campbell, California 95008.

GigaStorage Corporation Taiwan, 2, Kuang Fu South Road, Hsinchu Industrial Park, Hsinchu, Taiwan.

GigaStorage Corporation USA, 174 Lawrence Drive, Suite C, Livermore, California 94550.

Jacsonic Group, 246 Clary Avenue, San Gabriel, California 91776.

J&E Enterprises, Inc., 7900 San Fernando Road, #B1, Sun Valley, California 91352.

KingPro Mediatek Inc., No 28, Chung Cheng 1st Street, Yung Kang City, 71042, Tainan Hsien, Taiwan.

Linberg Enterprise Inc., 1 Charles Avenue, Building 130 B, West Orange, New Jersey 07052.

NewEgg.Com, Inc., 132 South 6th Avenue, La Puenta, California 91746.

PNY Technologies, Inc., 299 Webro Road, Parsippany, New Jersey 07054.

QTC Computer Systems, Inc., 1374 East Edinger Avenue, Santa Ana, California 92705.

STI Certified Products, Inc., 42982 Osgood Road, Fremont, California 94539.

Symmetry Group, Inc., 11-27 44th Road, Long Island City, New York 11101.

Tiger Direct, Inc., 7795 West Flagler Street, Suite 35, Miami, Florida 33144.

TKO Media Inc., 9440 Telstar Avenue, Suite 2, El Monte, California 91731.

U.S. DigitalMedia, Inc., 21430 North 20th Avenue, Phoenix, Arizona 85027.

Xtraplus Corporation, 38929 Cherry Street, Newark, California 94560.

(c) Jeffrey R. Whieldon, Esq., Office of Unfair Import Investigations, U.S. International Trade Commission, 500 E Street, SW., Room 401-A, Washington, DC 20436, who shall be the Commission investigative attorney, party to this investigation; and

(3) For the investigation so instituted, the Honorable Sidney Harris is designated as the presiding administrative law judge.

Responses to the complaint and the notice of investigation must be submitted by the named respondents in accordance with § 210.13 of the Commission's Rules of Practice and Procedure, 19 CFR 210.13. Pursuant to 19 CFR 201.16(d) and 210.13(a), such responses will be considered by the Commission if received no later than 20 days after the date of service by the Commission of the complaint and the notice of investigation. Extensions of time for submitting a response to the complaint will not be granted unless good cause therefor is shown.

Failure of a respondent to file a timely response to each allegation in the complaint and in this notice may be deemed to constitute a waiver of the right to appear and contest the allegations of the complaint and to authorize the administrative law judge and the Commission, without further notice to the respondent, to find the facts to be as alleged in the complaint and this notice and to enter both an initial determination and a final determination containing such findings, and may result in the issuance of a limited exclusion order or a cease and desist order or both directed against that respondent.

Issued: July 22, 2002.
By order of the Commission.
Marilyn R. Abbott,
Secretary.

[FR Doc. 02-18945 Filed 7-25-02; 8:45 am]

BILLING CODE 7020-02-P